DEPARTMENT OF TRANSPORTATION

Federal Railroad Administration

[Docket Number FRA-2012-0043]

Petition for Waiver of Compliance

In accordance with Part 211 of Title 49 Code of Federal Regulations (CFR), this document provides the public notice that by a document dated April 13, 2012, the Massachusetts Bay Commuter Railroad (MBCR) and Massachusetts Bay Transit Authority (MBTA) jointly petitioned the Federal Railroad Administration (FRA) for a temporary waiver of compliance from certain provisions of the Federal railroad safety regulations contained at 49 CFR part 236. FRA assigned the petition Docket Number FRA-2012-0043.

MBCR and MBTA seek relief from the requirements of 49 CFR 236.301, Where signals shall be provided. Relief is sought at two interlockings located on drawbridges on the Gloucester Branch. The Manchester Draw, Milepost (MP) 25.30 in Manchester-by-the-Sea; and the Gloucester Draw, MP 31.0, in Gloucester, Essex County, MA. The Gloucester Branch is a line of railroad owned by MBTA and operated and maintained by MBCR. There are two main tracks over both bridges, with the trackage through the subject area signaled with the current of traffic (in only one direction on either track). Currently, signals at both bridges that govern movements against the current of traffic are set to display “stop” aspects only. The signal control wires for those signals are disconnected. Only the light wires are active, keeping the subject signals displaying a red aspect and constantly lit. Relief is requested until such time as the signals at the Manchester Draw and Gloucester Draw are upgraded in conjunction with Positive Train Control (PTC) implementation pursuant to the MBTA PTC Implementation Plan (Revision 3) (September 2010), filed at FRA-2010-0030 as Document Number 0003 (filed on November 17, 2010).

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 9, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC, on May 18, 2012.
Ron Hynes,
Acting Deputy Associate Administrator for Regulatory and Legislative Operations.

[FR Doc. 2012-12716 Filed 5-24-12; 8:45 am]

BILLING CODE 4910-06-P